FEDERAL COMMUNICATIONS COMMISSION

47 CFR Part 73

[GN Docket No. 12-268; DA 14-1395]

Media Bureau Seeks Comment on Draft TV Broadcaster Relocation Fund Reimbursement Form

AGENCY: Federal Communications Commission.

ACTION: Proposed rule; request for comment.

SUMMARY: In this Document, the Media Bureau of the Federal Communications Commission (“Commission”) seeks comment on a draft TV Broadcaster Relocation Fund Reimbursement Form (“Reimbursement Form”), which broadcasters that are reassigned to new channels following the Incentive Auction and MVPDs will submit to provide information needed to obtain expense reimbursement. The Media Bureau also seeks comment on whether any information submitted on the Reimbursement Form should be kept confidential.

DATES: Comments are due on October 27, 2014.

ADDRESSES: You may submit comments, identified by GN Docket No. 12-268, by any of the following methods:

• Federal eRulemaking Portal: http://www.regulations.gov. Follow the instructions for submitting comments.

• Federal Communications Commission's Web site: http://www.fcc.gov/cgb/ecfs/. Follow the instructions for submitting comments.

• Mail: Filings can be sent by hand or messenger delivery, by commercial overnight courier, or by first-class or overnight U.S. Postal Service mail. All filings must be addressed to the Commission's Secretary, Office of the Secretary, Federal Communications Commission, 445 12th Street SW., Washington, DC 20554. Commercial overnight mail (other than U.S. Postal Service Express Mail and Priority Mail) must be sent to 9300 East Hampton Drive, Capitol Heights, MD 20743. U.S. Postal Service first-class, Express, and Priority mail must be addressed to 445 12th Street SW., Washington, DC 20554.

FOR FURTHER INFORMATION CONTACT: Pamela Gallant, Media Bureau, Video Division at 202-418-0614.

SUPPLEMENTARY INFORMATION: This is a summary of the FCC's document, GN Docket No. 12-268, DA 14-1395 (released September 25, 2014). The full text of this document is available for inspection and copying during normal business hours in the FCC Reference Center (Room CY-A257), 445 12th Street SW., Washington, DC 20554. The complete text of this document also may be purchased from the Commission's copy contractor Best Copy and Printing, Inc., 445 12th Street SW., Room CY-B402, Washington, DC, 20554. The full text may also be downloaded at: www.fcc.gov.

Summary

In this document (Public Notice available at http://www.fcc.gov/document/media-bureau-seeks-comment-incentive-auction-reimbursement-form), the Media Bureau seeks comment on a draft Reimbursement Form, which broadcasters and MVPDs will use to submit: Information needed to establish an account with the Department of Treasury for payment purposes; an estimate of their eligible relocation costs; actual cost documentation throughout the construction period, as they incur expenses; and their total expenses incurred. In order to ensure fairness, efficiency, and transparency of process for reimbursing broadcasters for relocation costs related to the Incentive Auction, and the associated costs of MVPDs, we are providing the opportunity for stakeholders to comment on a draft Reimbursement Form and instructions well in advance of the commencement of the Incentive Auction. The comments we receive will assist us in designing a form that facilitates the reimbursement process for all parties while also ensuring that we are efficient stewards of limited reimbursement funds, and guardians against waste, fraud and abuse. Consistent with the process set out in the Incentive Auction Order, broadcasters and MVPDs will file the Reimbursement Form no later than three months following the release of the Channel Reassignment Public Notice, at which time they will submit their overall estimate of the cost of completing their transition. At that time, broadcasters and MVPDs will indicate whether they plan to modify current equipment or purchase new equipment and will identify the existing equipment that must be modified or replaced. The Commission's reimbursement process provides for an initial allocation of funds based on broadcasters' and MVPDs' estimated costs. Prior to the deadline for filing cost estimates, broadcasters and MVPDs will need to establish a U.S. Treasury account for receiving payment from the TV Broadcaster Relocation Fund. Submitting this information via the Reimbursement Form before the deadline for filing estimated costs will allow entities to start the process of establishing an account well before they receive their initial allocation of funds.

Once an initial amount is allocated for each entity, and broadcasters and MVPDs begin purchasing equipment and services, they will submit an updated Reimbursement Form along with cost documentation demonstrating their actual costs each time they seek reimbursement for an expense against their allocation. This process will allow broadcasters and MPVDs to use federal funds to pay their expenses as they are incurred. Finally, all entities that receive an allocation must submit a final Reimbursement Form showing their total expenses upon completing construction or by a specific deadline prior to the end of the three-year reimbursement period to be announced by the Media Bureau, whichever is earlier. Some stations with longer construction deadlines and some MVPDs might still have outstanding expenses by that deadline; these entities must provide a final accounting of expenses on the Reimbursement Form upon completing the transition, even if this occurs after the end of the reimbursement period. Entities need complete and submit only the relevant sections of the form as they proceed through each phase of the reimbursement process.

As contemplated by the Incentive Auction Order, the Media Bureau will make public the amounts distributed from the Reimbursement Fund to each broadcaster and MVPD. However, we seek specific comment on whether any of the other data submitted on the Reimbursement Form should be considered confidential or not subject to public disclosure. Although the Incentive Auction Order states that entities can submit a request for confidential treatment of data submitted on the Reimbursement Form pursuant to § 0.459 of the Commission's rules, we seek comment on whether the Media Bureau should automatically treat certain specific information provided on the Reimbursement Form as confidential. If so, we invite parties to specify which information fields should be deemed confidential and which provision of the Commission's rules permits such a blanket non-disclosure presumption.

Release of a draft Reimbursement Form (Attachment A) (available at http://www.fcc.gov/article/da-14-1395a2) and instructions (Attachment B) (available at http://www.fcc.gov/article/da-14-1395a3) well in advance of the commencement of the Incentive Auction is an important first step in the process of designing a form with the input of stakeholders that promotes fairness, efficiency and transparency of process. The draft form is a representation of the data fields to be included in the electronic form and illustrates the information to be collected. The public will have additional opportunity to comment on this data collection, as required by the Paperwork Reduction Act of 1995, after it is submitted to the Office of Management and Budget.

Federal Communications Commission.
William T. Lake,
Chief, Media Bureau.

[FR Doc. 2014-24203 Filed 10-8-14; 8:45 am]

BILLING CODE 6712-01-P